DEPARTMENT OF ENERGY

Federal Energy Regulatory Commission

[Docket No. RP00-314-000]

Discovery Gas Transmission LLC; Notice of Request for Waiver

June 6, 2000.

Take notice that on May 31, 2000, Discovery Gas Transmission LLC (Discovery) filed a Request for Waiver of section 284.12(c)(3) of the Commission's regulations with respect to conducting electronic transactions on the public internet. Discovery states that it is a relatively small company whose customers conduct relatively few transactions. It claims that implementation of the services required under this regulation is not warranted and would not be cost effective under the circumstances.

Any person desiring to be heard or to protest said filing should file a motion to intervene or a protest with the Federal Energy Regulatory Commission, 888 First Street, NE, Washington, DC 20426, in accordance with Sections 385.214 or 385.211 of the Commission's Rules and Regulations. All such motions or protests must be filed on or before June 13, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-14708 Filed 6-9-00; 8:45 am]

BILLING CODE 6717-01-M